DEPARTMENT OF TRANSPORTATION

Federal Aviation Administration

14 CFR Part 39

[Docket No. FAA-2010-0780; Directorate Identifier 2009-SW-68-AD]

RIN 2120-AA64

Airworthiness Directives; Eurocopter Deutschland GmbH (ECD) Model MBB-BK 117 C-2 Helicopters

AGENCY: Federal Aviation Administration (FAA), DOT.

ACTION: Notice of proposed rulemaking (NPRM).

SUMMARY: We propose to supersede an existing airworthiness directive (AD) for ECD Model MBB-BK 117 C-2 helicopters. This proposed AD results from a mandatory continuing airworthiness information (MCAI) AD issued by the European Aviation Safety Agency (EASA), which is the Technical Agent for the Member States of the European Community. The MCAI AD states there was an in-flight incident in which a dynamic weight broke off the control lever leading to considerable vibrations. A visual inspection revealed that the threaded bolt of the control lever had broken off. The proposed actions are intended to prevent separation of dynamic weights, severe vibration, and subsequent loss of control of the helicopter.

DATES: We must receive comments on this proposed AD by September 10, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, Texas 75053-4005, telephone (972) 641-3460, fax (972) 641-3527.

Examining the Docket: You may examine the AD docket on the Internet at http://www.regulations.gov or in person at the Docket Operations office between 9 a.m. and 5 p.m., Monday through Friday, except Federal holidays. The AD docket contains this proposed AD, the economic evaluation, any comments received, and other information. The street address for the Docket Operations Office (telephone (800) 647-5527) is stated in the ADDRESSES section of this proposal. Comments will be available in the AD docket shortly after receipt.

FOR FURTHER INFORMATION CONTACT: DOT/FAA Southwest Region, Sharon Miles, ASW-111, Aviation Safety Engineer, Rotorcraft Directorate, Regulations and Guidance Group, 2601 Meacham Blvd., Fort Worth, Texas 76137, telephone (817) 222-5122, fax (817) 222-5961.

SUPPLEMENTARY INFORMATION:

Comments Invited

We invite you to send any written data, views, or arguments about this proposed AD. Send your comments to an address listed in the ADDRESSES section of this proposal. Include “Docket No. FAA-2010-0780; Directorate Identifier 2009-SW-68-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 14, 2007, we issued AD 2006-26-51, Amendment 39-14961 (72 FR 13679, March 23, 2007). That AD required actions intended to address an unsafe condition on the Model MBB-BK 117 C-2 helicopters. Since we issued AD 2006-26-51, the manufacturer has modified the control lever and dynamic weights, which when installed on the helicopter will constitute terminating action for the requirements in AD 2006-26-51.

EASA, which is the technical agent for the Member States of the European Community, has issued EASA AD No. 2007-0237, dated August 31, 2007, to correct an unsafe condition for the Model MBB-BK 117 C-2 helicopters. The MCAI AD states: “EASA was informed by the manufacturer of an in-flight incident in which a dynamic weight broke off the control lever subsequently leading to considerable vibrations. A visual inspection revealed that the threaded bolt of the control lever had broken off.”

You may obtain further information by examining the MCAI AD and service information in the AD docket.

Related Service Information

ECD has issued ECD Alert Service Bulletin MBB BK117 C-2-64A-002, Revision 2, dated August 6, 2007. The actions described in the MCAI AD are intended to correct the same unsafe condition as that identified in the service information.

FAA's Evaluation and Unsafe Condition Determination

This helicopter has been approved by the aviation authority of the Federal Republic of Germany and is approved for operation in the United States. Pursuant to our bilateral agreement with the Federal Republic of Germany, EASA, their Technical Agent, has notified us of the unsafe condition described in the MCAI AD. We are proposing this AD because we evaluated all information provided by EASA and determined the unsafe condition exists and is likely to exist or develop on other helicopters of this same type design.

Differences Between the AD and the MCAI AD

We refer to flight hours as hours time-in-service. We do not refer to a date of October 31, 2007, for replacing the levers because the date has passed.

Costs of Compliance

We estimate that this proposed AD would affect 41 helicopters of U.S. registry. We also estimate that it would take about 20 work-hours per helicopter to inspect and replace the tail rotor control lever. The average labor rate is $85 per work-hour. Required parts would cost about $10,316 per helicopter. Based on these figures, we estimate the cost of this AD to the U.S. operators to be $492,656 or $12, 016 per helicopter, assuming the control lever is replaced on the entire fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this proposed AD would not have federalism implications under Executive Order 13132. This proposed AD would not have a substantial direct effect on the States, on the relationship between the national Government and the States, or on the distribution of power and responsibilities among the various levels of government.

Therefore, I certify this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14961 (72 FR 13679, dated March 23, 2007) and adding the following new AD:

Eurocopter Deutschland GmbH: Docket No. FAA-2010-0780; Directorate Identifier 2009-SW-68-AD.

Comments Due Date

(a) We must receive your comments by September 10, 2010.

Other Affected ADs

(b) This AD supersedes AD 2006-26-51, Amendment 39-14961, Docket No. FAA 2006-26721, Directorate Identifier 2006-SW-28-AD.

Applicability

(c) This AD applies to Model MBB-BK 117 C-2 helicopters with a tail rotor control lever B642M1009103, installed, certificated in any category.

Reason

(d) The mandatory continued airworthiness information (MCAI) AD states: “EASA was informed by the manufacturer of an in-flight incident in which a dynamic weight broke off the control lever subsequently leading to considerable vibrations. A visual inspection revealed that the threaded bolt of the control lever had broken off.” This AD requires actions that are intended to prevent separation of dynamic weights, severe vibration, and subsequent loss of control of the helicopter.

Actions and Compliance

(e) Before further flight, unless already done, mark the position of the weights, remove the split pins, remove the weights, and visually inspect the tail rotor control lever in the area around the split pin bore for score marks, notching, scratching, or a crack. Inspect by following the Accomplishment Instructions, paragraph 3.A.(1) through 3.A.(3) and Figure 1, of Eurocopter Alert Service Bulletin MBB BK 117 C-2-64A-002, Revision 2, dated August 6, 2007 (ASB).

(1) If done previously, within the next 8 hours time-in-service (TIS) or before reaching 25 hours TIS after the last inspection, and thereafter at intervals not to exceed 8 hours TIS, repeat the visual inspection of the tail rotor control lever as required by paragraph (e) of this AD.

(2) If you find a score mark, a notch, or a scratch that exceeds the maintenance manual limits, or find a crack, before further flight:

(i) Replace the tail rotor control lever with an airworthy tail rotor control lever; and

(ii) Reidentify the tail rotor head, head assembly, and drive system with the new part numbers by following the Accomplishment Instructions, paragraph 3.B.(1) through 3.B.(8) and 3.C.(1) through 3.C.(2), of the ASB.

(f) Within 100 hours TIS, unless already done, replace the control levers and reidentify the tail rotor head, head assembly, and drive system with the new part numbers by following the Accomplishment Instructions, paragraph 3.B.(1) through 3.B.(8) and 3.C.(1) through 3.C.(2), of the ASB.

(g) Replacing the control levers and reidentifying the part numbers is terminating action for the requirements of this AD.

Differences Between the FAA AD and the MCAI AD

(h) We refer to flight hours as hours TIS. We do not refer to a date of October 31, 2007, for replacing the levers because the date has passed.

Other Information

(i) Alternative Methods of Compliance (AMOCs): The Manager, Safety Management Group, ATTN: DOT/FAA Southwest Region, Sharon Miles, ASW-111, Aviation Safety Engineer, Rotorcraft Directorate, Regulations and Guidance Group, 2601 Meacham Blvd., Fort Worth, Texas 76137, telephone (817) 222-5122, fax (817) 222-5961, has the authority to approve AMOCs for this AD, if requested, using the procedures found in 14 CFR 39.19.

(j) Special flight permits are prohibited.

Related Information

(k) MCAI EASA Airworthiness Directive No. 2006-0237, dated August 31, 2007, which supersedes EASA Emergency AD 2007-0189-E, dated July 12, 2007, contains related information.

Joint Aircraft System/Component (JASC) Code

(l) The JASC Code is 6400: Tail rotor system-control lever.

Issued in Fort Worth, Texas, on August 3, 2010.
Scott A. Horn,
Acting Manager, Rotorcraft Directorate, Aircraft Certification Service.

[FR Doc. 2010-19817 Filed 8-10-10; 8:45 am]

BILLING CODE 4910-13-P